DEPARTMENT OF COMMERCE

International Trade Administration

(A-583-842)

Notice of Preliminary Determination of Sales at Less Than Fair Value: Raw Flexible Magnets from Taiwan

AGENCY: Import Administration, International Trade Administration, Department of Commerce.

EFFECTIVE DATE: April 25, 2008.

SUMMARY: We preliminarily determine that imports of raw flexible magnets from Taiwan are being, or are likely to be, sold in the United States at less than fair value, as provided in section 733 of the Tariff Act of 1930, as amended. Interested parties are invited to comment on this preliminary determination. We will make our final determination within 75 days after the date of this preliminary determination.

FOR FURTHER INFORMATION CONTACT: Catherine Cartsos or Richard Rimlinger, Import Administration, International Trade Administration, U.S. Department of Commerce, 14th Street and Constitution Avenue, NW, Washington, DC 20230; telephone: (202) 482-1757 and (202) 482-4477, respectively.

SUPPLEMENTARY INFORMATION:

Background

On October 18, 2007, the Department of Commerce (the Department) published in the Federal Register the initiation of an antidumping investigation on raw flexible magnets from Taiwan. See Notice of Initiation of Antidumping Duty Investigations: Raw Flexible Magnets from the People's Republic of China and Taiwan, 72 FR 59071 (October 18, 2007) (Initiation Notice). In accordance with the Preamble to the Department's regulations (see Antidumping Duties; Countervailing Duties, 62 FR 27296, 27323 (May 19, 1997) (Preamble)), in our Initiation Notice we set aside a period of time for parties to raise issues regarding product coverage and encouraged all parties to submit comments within 20 calendar days of publication of the Initiation Notice.

On November 5, 2007, the International Trade Commission (ITC) issued its affirmative preliminary determination that there is a reasonable indication that an industry in the United States is materially injured by reason of imports of raw flexible magnets from the People's Republic of China and Taiwan. See Raw Flexible Magnets from China and Taiwan, 72 FR 63629 (November 9, 2007).

On December 11, 2007, we selected Kin Fong Magnets Co., Ltd. (Kin Fong), Magruba Flexible Magnets Co., Ltd. (Magruba), and JASDI Magnet Co., Ltd. (JASDI), as the mandatory respondents in this investigation. See the Memorandum form Laurie Parkhill to Stephen J. Claeys entitled “Antidumping Duty Investigation on Raw Flexible Magnets from Taiwan - Selection of Respondents,” December 11, 2007.

On March 13, 2008, the petitioner alleged that JASDI made home-market sales of raw flexible magnets at prices below the cost of production during the period of investigation. On March 26, 2008, we initiated an investigation to determine whether JASDI made home-market sales of raw flexible magnets at prices below the cost of production during the period of investigation. See Memorandum from Richard Rimlinger to Laurie Parkhill entitled “Raw Flexible Magnets from Taiwan: Request to Initiate Cost Investigation of JASDI Magnet Co., Ltd.,” dated March 26, 2008.

Period of Investigation

The period of investigation is July 1, 2006, through June 30, 2007.

Scope of Investigation

The products covered by this investigation are certain flexible magnet sheeting, strips, and profile shapes. Subject flexible magnet sheeting, strips, and profile shapes are bonded magnets composed (not necessarily exclusively) of (i) any one or combination of various flexible binders (such as polymers or co-polymers, or rubber) and (ii) a magnetic element, which may consist of a ferrite permanent magnet material (commonly, strontium or barium ferrite, or a combination of the two), a metal alloy (such as NdFeB or Alnico), any combination of the foregoing with each other or any other material, or any other material capable of being permanently magnetized. Subject flexible magnet sheeting, strips, and profile shapes are capable of being permanently magnetized, but may be imported in either magnetized or unmagnetized (including demagnetized) condition. Subject merchandise may be of any color and may or may not be laminated or bonded with paper, plastic, or other material, which paper, plastic, or other material may be of any composition and/or color. Subject merchandise may be uncoated or may be coated with an adhesive or any other coating or combination of coatings. Subject merchandise is within the scope of this investigation whether it is in rolls, coils, sheets, or pieces and regardless of physical dimensions or packaging, including specialty packaging such as digital printer cartridges.

Specifically excluded from the scope of this investigation is retail printed flexible magnet sheeting, defined as flexible magnet sheeting (including individual magnets) that is laminated with paper, plastic or other material if such paper, plastic, or other material bears printed text and/or images, including but not limited to business cards, calendars, poetry, sports event schedules, business promotions, decorative motifs, and the like. This exclusion does not apply to such printed flexible magnet sheeting if the printing concerned consists of only the following: a trade mark or trade name; country of origin; border, stripes, or lines; any printing that is removed in the course of cutting and/or printing magnets for retail sale or other disposition from the flexible magnet sheeting; manufacturing or use instructions (e.g., “print this side up,” “this side up,” “laminate here”); printing on adhesive backing (that is, material to be removed in order to expose adhesive for use, such as application of laminate) or on any other covering that is removed from the flexible magnet sheeting prior or subsequent to final printing and before use; non-permanent printing (that is, printing in a medium that facilitates easy removal, permitting the flexible magnet sheeting to be re-printed); printing on the back (magnetic) side; or any combination of the above.

All products meeting the physical description of subject merchandise that are not specifically excluded are included in this scope. The products subject to the investigation are currently classifiable principally under subheadings 8505.19.10 and 8505.19.20 of the Harmonized Tariff Schedule of the United States (HTSUS). The HTSUS subheadings are provided only for convenience and customs purposes, the written description of the scope of this proceeding is dispositive.

On November 7, 2007, SH Industries, a U.S. importer of subject merchandise, argued that magnetic photo pockets, which are flexible magnets with clear plastic material fused to the magnet to form a pocket into which photographs and other items may be inserted for display, should be excluded from the scope of the antidumping and countervailing duty investigations on raw flexible magnets from the People's Republic of China and Taiwan. On November 13, 2007, the petitioner filed a response to the request by SH Industries, arguing that magnetic photo pockets are properly within the scope of the investigations. On April 11, 2008, the petitioner submitted additional argument concerning this issue. Because we received this letter only four business days before the statutory deadline for this preliminary determination, we did not have an opportunity to consider it prior to issuance of this preliminary determination.

We invite interested parties to submit comments on the petitioner's April 11, 2008, submission and to present evidence concerning the meaning of the terms “sheeting, strips, and profiles” as those terms are used within the industry. Additionally, because the scope language also states that “subject merchandise may be of any color and may or may not be laminated or bonded with paper, plastic or other material, which paper, plastic or other material may be of any composition and/or color,” we encourage interested parties to comment on whether the plastic photo pocket fused to the flexible magnet satisfies this description.

Finally, interested parties may submit information that would be relevant in an analysis conducted pursuant to section 351.225(k)(2) of our regulations. The deadline for such comments will be 14 days after the publication of this notice. Rebuttal comments must be filed within five days thereafter. Comments should be addressed to Import Administration's Central Records Unit (CRU), Room 1870, U.S. Department of Commerce, 14th Street and Constitution Avenue, N.W., Washington, D.C. 20230.

Issuance of Questionnaire

On December 11, 2007, we issued Sections A, B, C, D, and E¹ of the antidumping questionnaire to Kin Fong, Magruba, and JASDI. We received a timely response from JASDI. We did not receive a response from Kin Fong or Magruba by the close of business on January 2, 2008, the established deadline for Section A of our questionnaire. On January 8, 2008, we sent King Fong and Magruba a letter notifying them that we had not received a response to our Section A questionnaire. In our January 8, 2008, letters to Kin Fong and Magruba, we also informed them that any submissions that were not filed in accordance with 19 CFR 351.303 and 304 of our regulations would be deemed untimely filed pursuant to 19 CFR 351.302 and that we may use facts otherwise available for Kin Fong's and Magruba's antidumping margin in this investigation pursuant to sections 776(a) and (b) of the Tariff Act of 1930, as amended (the Act).

¹ Section A of the antidumping duty questionnaire requests general information concerning a company's corporate structure and business practices, the merchandise under investigation, and the manner in which it sells that merchandise in all of its markets. Section B requests a complete listing of all of the company's home-market sales of the foreign like product or, if the home market is not viable, of sales of the foreign like product in the most appropriate third-country market. Section C requests a complete listing of the company's U.S. sales of subject merchandise. Section D requests information of the cost of production of the foreign like product and the constructed value of the merchandise under investigation. Section E requests information on further-manufacturing activities.

We have not received any response to our questionnaire or any other communication from Kin Fong since we issued the questionnaire to it. Magruba made attempts to respond to our January 8, 2008, letter claiming that it had not made sales during the POI as we discuss below. Although JASDI responded to Sections A, B, and C of our antidumping questionnaire initially, it did not respond to our March 11, 2008, supplemental questionnaire. Additionally, even though we informed JASDI that we had initiated an investigation to determine whether JASDI made sales of raw flexible magnets in Taiwan at prices that were below the cost of production and requested that JASDI respond to Section D of our antidumping questionnaire by April 10, 2008, JASDI did not respond to our request.

Finally, the Department rejected JASDI's request to withhold certain information from disclosure under the administrative protective order (APO). The Department requested that JASDI resubmit this information, protected under the APO. Due to timing issues, the Department also requested written authorization to share this information protected under the terms of the APO with the petitioners. JASDI did not resubmit the information as requested and did not respond to the Department's request for authorization to release the information under the APO.

Use of Facts Otherwise Available

For the reasons discussed below, we determine that the use of adverse facts available (AFA) is appropriate for the preliminary determination with respect to Kin Fong, Magruba, and JASDI.

A. Use of Facts Available

Section 776(a)(2) of the Act provides that, if an interested party withholds information requested by the administering authority, fails to provide such information by the deadlines for submission of the information and in the form or manner requested, subject to subsections (c)(1) and (e) of section 782, significantly impedes a proceeding under this title, or provides such information but the information cannot be verified as provided in section 782(i), the administering authority shall use, subject to section 782(d) of the Act, facts otherwise available in reaching the applicable determination. Section 782(d) of the Act provides that, if the administering authority determines that a response to a request for information does not comply with the request, the administering authority shall promptly inform the responding party and provide an opportunity to remedy the deficient submission. Section 782(e) of the Act states further that the Department shall not decline to consider submitted information if all of the following requirements are met: (1) the information is submitted by the established deadline; (2) the information can be verified; (3) the information is not so incomplete that it cannot serve as a reliable basis for reaching the applicable determination; (4) the interested party has demonstrated that it acted to the best of its ability; and (5) the information can be used without undue difficulties.

In this case, Kin Fong, Magruba, and JASDI did not provide essential information we requested that is necessary to calculate an antidumping margin for the preliminary determination. Specifically, Kin Fong and Magruba failed to respond to all of our questionnaires, thereby withholding information that is necessary for reaching the applicable determination, pursuant to section 776(a)(2)(A) of the Act. Also, because JASDI failed to respond to Section D of our questionnaire and to supplement its section A, B, and C responses, we preliminarily find that the information submitted is not verifiable, that it is incomplete and cannot serve as a reliable basis for reaching our determination, and that we cannot use the information without undue difficulties. Specifically, despite our initiation of a cost investigation, we have no information on the record regarding JASDI's cost of production. Additionally, in our supplemental questionnaire we requested additional information necessary for us to make our determination. Thus, with respect to our preliminary determination, pursuant to sections 776(a)(2)(A), (B), (C), and (D) of the Act, we have based the antidumping margin on facts otherwise available for Kin Fong, Magruba, and JASDI.

B. Application of Adverse Inferences for Facts Available

In applying the facts otherwise available, section 776(b) of the Act provides that, if the administering authority finds that an interested party has failed to cooperate by not acting to the best of its ability to comply with a request for information from the administering authority, in reaching the applicable determination under this title, the administering authority may use an inference adverse to the interests of that party in selecting from among the facts otherwise available. See, e.g., Notice of Preliminary Determination of Sales at Less Than Fair Value, and Postponement of Final Determination: Certain Circular Welded Carbon-Quality Line Pipe From Mexico, 69 FR 59892 (October 6, 2004).

Adverse inferences are appropriate “to ensure that the party does not obtain a more favorable result by failing to cooperate than if it had cooperated fully.” See Statement of Administrative Action accompanying the Uruguay Round Agreements Act, H.R. Doc. No. 103-316, vol.1 (1994) at 870 (SAA). Further, “affirmative evidence of bad faith on the part of a respondent is not required before the Department may make an adverse inference.” See Antidumping Duties; Countervailing Duties, 62 FR 27296, 27340 (May 19, 1997).

Kin Fong

With respect to Kin Fong, although the Department provided it with notice informing it of the consequences of its failure to respond adequately to the Department's questionnaire in this case pursuant to section 782(d) of the Act, Kin Fong did not respond to the questionnaire. This constitutes a failure on the part of Kin Fong to cooperate to the best of its ability to comply with a request for information by the Department within the meaning of section 776(b) of the Act. Because Kin Fong did not provide the information requested, section 782(e) of the Act is not applicable. Based on the above, the Department has preliminarily determined that Kin Fong failed to cooperate to the best of its ability and, therefore, in selecting from among the facts otherwise available, an adverse inference is warranted. See, e.g., Notice of Final Determination of Sales at Less than Fair Value: Circular Seamless Stainless Steel Hollow Products from Japan, 65 FR 42985 (July 12, 2000) (the Department applied total AFA where the respondent failed to respond to the antidumping questionnaire).

Magruba

With respect to Magruba, although the Department provided it with notice informing it of the consequences of its failure to respond adequately to the questionnaire in this case pursuant to section 782(d) of the Act, Magruba did not file a proper response to the questionnaire.

On December 11, 2007, we sent Magruba a questionnaire. The response to Section A of our questionnaire was due on January 2, 2008. The response to sections B through D of our questionnaire was due on January 22, 2008. Because Magruba did not submit a Section A questionnaire response by the due date, we sent Magruba a follow-up letter on January 8, 2008, in which we repeated the consequences of its failure to respond adequately to our questionnaire.

On January 9, 2008, Magruba transmitted to the Department a letter in which it claimed it did not sell subject merchandise to the United States during the POI. Magruba did not file its January 9, 2008, letter in accordance to our regulations. On January 19, 2008, we sent Magruba a letter in which we identified the filing, service, and certification deficiencies of Magruba's January 9, 2008, submission. Namely, Magruba did not mail the letter to the Department of Commerce in accordance with 19 CFR 351.303(b) but faxed and e-mailed the letter, which are not acceptable methods for filing purposes. In addition, Magruba did not file the requisite number of copies in accordance with 19 CFR 351.303(c), did not provide the proper specifications on its cover letter in accordance with 19 CFR 351.303(d)(2)(v), did not include a certification that it served a copy of its submission on interested parties in accordance with 19 CFR 351.303(f), and, finally, did not include a certificate of accuracy in accordance with 19 CFR 351.303(g). Also in our January 19, 2008, letter we enclosed a copy of the pertinent regulations (19 CFR 351.303) and a copy of the public service list. Finally, in our January 19, 2008, letter we informed Magruba that we had placed a copy of its January 9, 2008, on the record but requested that Magruba refile its Janaury 9, 2008, letter in accordance with 19 CFR 351.303 by the close of business on January 22, 2008. We emphasized that, if Magruba did not file future submissions within the set deadline and in accordance with our regulations, we would reject the submission which may result in our use of adverse facts available. Magruba did not refile its January 9, 2008, letter.

On January 18, 2008, the petitioner filed comments on Magruba's Janaury 9, 2008, letter. The petitioner claimed that Magruba had in fact made sales of subject merchandise to the United States during the POI and supported its claim with import data sourced from the “PIERS” database.

On February 19, 2008, Magruba faxed and e-mailed a second letter to the Department repeating the same filing, service, and certification deficiencies of its January 9, 2008, letter. The February 19, 2008, letter had different content than the January 8, 2008, letter and thus was not an attempt to refile the Janaury 9, 2008, letter. On March 3, 2008, we sent a letter to Magruba in which we rejected its February 19, 2008, letter due to its filing deficiencies. In the letter we identified the deficiencies and again included a copy of the pertinent regulations and public service list. We allowed Magruba a chance to remedy the deficiencies and refile its February 19, 2008, letter by March 10, 2008. Magruba did not refile the letter.

Information we obtained from the U.S. Customs and Border Protection (CBP) supports the petitioner's allegation that entries of subject merchandise from Magruba entered the United States during the POI. See Memorandum from Catherine Cartsos through Richard Rimlinger to the File, Less-Than-Fair-Value Investigation On Raw Magnets from Taiwan: Customs and Border Protection Entry Data for Magruba Flexible Magnets Co., Ltd., dated April 18, 2008 (Magruba CBP Data Memorandum).

Magruba did not respond to our questionnaire. Even if Magruba believed that it did not sell merchandise covered by the scope of the investigation to the United States during the POI, Magruba still should have submitted a questionnaire response in which it could have argued before us its position and provide factual support to its argument. Magruba chose not to do so. When Magruba did attempt to communicate with the Department, it failed to follow the regulatory filing requirements. Moreover, Magruba failed to resubmit its defective submissions twice in accordance with the Department's instructions. Although Magruba contends in its January 9, 2008, letter that it had no shipments of subject merchandise, information on the record supports the petitioner's claim that Magruba did indeed sell subject merchandise to the United States during the POI. Accordingly we preliminarily find that Magruba failed to cooperate to the best of its ability and therefore it is appropriate to apply an adverse inference in selecting from among the facts available.

JASDI

As explained above, JASDI failed to provide pertinent information we requested that is necessary to calculate an antidumping margin for the preliminary determination. Specifically, JASDI withheld information concerning its sales practices and cost-of-production information, which is necessary for reaching the applicable determination. See section 776(a)(2)(A) of the Act. These actions constitute a failure on the part of JASDI to cooperate to the best of its ability to comply with a request for information by the Department within the meaning of section 776(b) of the Act. Accordingly, the Department has preliminarily determined that JASDI failed to cooperate to the best of its ability and, therefore, in selecting from among the facts otherwise available, an adverse inference is warranted. See Notice of Preliminary Determination of Sales at Less Than Fair Value: Glycine From India, 72 FR 62827 (November 7, 2007) (unchanged in Notice of Amended Preliminary Determination of Sales at Less Than Fair Value: Glycine From India, 72 FR 62826 (November 7, 2007)), and Notice of Final Determination of Sales at Less Than Fair Value: Glycine from India, 73 FR 16640 (March 28, 2008).

Selection and Corroboration of Information Used as Facts Available

Where the Department applies AFA because a respondent failed to cooperate by not acting to the best of its ability by complying with a request for information, section 776(b) of the Act authorizes the Department to rely on information derived from the petition, a final determination, a previous administrative review, or other information placed on the record. See also 19 CFR 351.308(c) and the SAA at 829-831. It is the Department's practice to use the highest calculated rate from the petition in an investigation when a respondent fails to act to the best of its ability to provide the necessary information and there are no other respondents. See, e.g., Notice of Preliminary Determination of Sales at Less Than Fair Value and Postponement of Final Determination: Purified Carboxymethylcellulose From Finland, 69 FR 77216 (December 27, 2004) (unchanged in Notice of Final Determination of Sales at Less Than Fair Value: Purified Carboxymethylcellulose From Finland, 70 FR 28279 (May 17, 2005)). In this case, because we are unable to calculate a margin for Kin Fong, Magruba, and JASDI and because an adverse inference is warranted, we have assigned to these firms a margin of 38.03 percent, the highest margin alleged in the petition. See Antidumping Duty Petition on Raw Flexible Magnets from the People's Republic of China and Taiwan (September 21, 2007) and its September 27, 2007, October 1, 2007, October 9, 2007, October 10, 2007, and October 11, 2007, supplements (collectively Petition) filed on behalf of Magnum Magnetics Corporation (the petitioner).

When using facts otherwise available, section 776(c) of the Act provides that, when the Department relies on secondary information (such as the petition) rather than on information obtained in the course of an investigation, it must corroborate, to the extent practicable, information from independent sources that are reasonably available at its disposal.

The SAA clarifies that “corroborate” means the Department will satisfy itself that the secondary information to be used has probative value. See SAA at 870. As stated in Tapered Roller Bearings and Parts Thereof, Finished and Unfinished, from Japan, and Tapered Roller Bearings, Four Inches or Less in Outside Diameter, and Components Thereof, from Japan; Preliminary Results of Antidumping Duty Administrative Reviews and Partial Termination of Administrative Reviews, 61 FR 57391, 57392 (November 6, 1996) (unchanged in Tapered Roller Bearings and Parts Thereof, Finished and Unfinished, From Japan, and Tapered Roller Bearings, Four Inches or Less in Outside Diameter, and Components Thereof, From Japan; Final Results of Antidumping Duty Administrative Reviews and Termination in Part, 62 FR 11825, 11843 (March 13, 1997)), to corroborate secondary information, the Department will examine, to the extent practicable, the reliability and relevance of the information used. The Department's regulations state that independent sources used to corroborate such evidence may include, for example, published price lists, official import statistics and customs data, and information obtained from interested parties during the particular investigation. See 19 CFR 351.308(d) and the SAA at 870.

For the purposes of this investigation, to the extent appropriate information was available, we reviewed the adequacy and accuracy of the information in the Petition during our pre-initiation analysis and for purposes of this preliminary determination. See Antidumping Duty Investigation Initiation Checklist: Raw Flexible Magnets from Taiwan (October 18, 2007) (Taiwan Initiation Checklist). We also examined evidence supporting the calculations in the Petition to determine the probative value of the margins alleged in the Petition. In addition, we examined the key elements of the constructed export-price (CEP) and normal-value calculations used in the Petition to derive antidumping margins. Our examination also included information from various independent sources provided either in the Petition or, based on our requests, in supplements to the Petition. These data corroborate key elements of the CEP and normal-value calculations.

The petitioner calculated CEP using two price offers from the U.S. affiliated reseller of JASDI, a Taiwanese producer of raw flexible magnets. The petitioner provided an affidavit from the employee who obtained the price offers. The petitioner deducted amounts for foreign inland-freight costs, international freight costs, U.S. inland-freight costs, U.S. operating expenses (as indirect selling expenses), inventory carrying costs, and CEP profit. The petitioner used publicly available data, such as import statistics from the Bureau of Census, to estimate charges for freight expenses and marine-insurance expenses. Due to the payment terms described in the price offers, the petitioner made no adjustments for imputed credit expense. See Taiwan Initiation Checklist at 6. We obtained no other information that would make us question the reliability of the pricing information provided in the Petition. Based on our examination of the aforementioned information, we consider the petitioner's calculation of net U.S. prices corroborated.

With respect to normal value, the petitioner calculated normal value using six price quotes, obtained by a market researcher, from JASDI, the Taiwanese producer of the subject merchandise. The petitioner did not make any adjustment for packing because the packing expenses were included in the price quotes and, therefore, the petitioner was unable to quantify the exact difference in packing materials and costs. In addition, because of the sale and payment terms described in the price quote, the petitioner made no adjustments for freight or imputed credit expense. See Taiwan Initiation Checklist at 6. We consider the petitioner's calculation of normal value to be corroborated because the calculations relied on actual price quotes obtained from a Taiwanese respondent manufacturer of subject merchandise.

Therefore, because we confirmed the accuracy and validity of the information underlying the derivation of margins in the Petition by examining source documents as well as publicly available information, we preliminarily determine that the margins in the Petition are reliable for the purposes of this investigation.

In making a determination as to the relevance aspect of corroboration, the Department will consider information reasonably at its disposal as to whether there are circumstances that would render a margin not relevant. Where circumstances indicate that the selected margin is not appropriate as AFA, the Department will disregard the margin and determine an appropriate margin. For example, in Fresh Cut Flowers from Mexico: Final Results of Antidumping Duty Administrative Review, 61 FR 6812 (February 22, 1996), the Department disregarded the highest margin as “best information available” (the predecessor to “facts available”) because the margin was based on another company's uncharacteristic business expense that resulted in an unusually high dumping margin.

In Am. Silicon Techs. v. United States, 273 F. Supp. 2d 1342, 1346 (CIT 2003), the court found that the AFA rate bore a “rational relationship” to the respondent's “commercial practices” and was, therefore, relevant. In the pre-initiation stage of this investigation, we confirmed that the calculation of margins in the Petition reflects commercial practices of the particular industry during the POI. Further, no information has been presented in the investigation that calls into question the relevance of this information.

As such, we preliminarily determine that the highest margin in the Petition, which we determined during our pre-initiation analysis was based on adequate and accurate information and which we have corroborated for purposes of this preliminary determination, is relevant as the AFA rate for Kin Fong, Magruba, and JASDI in this investigation.

Similar to our position in Polyethylene Retail Carrier Bags from Thailand: Preliminary Results of Antidumping Duty Administrative Review, 71 FR 53405 (September 11, 2006) (unchanged in Polyethylene Retail Carrier Bags from Thailand: Final Results of Antidumping Duty Administrative Review, 72 FR 1982 (January 17, 2007)), because this is the first proceeding involving Kin Fong, Magruba, and JASDI there are no probative alternatives. Accordingly, by using information that was corroborated in the pre-initiation stage of this investigation and preliminarily determined to be relevant to these firms in this investigation, we have corroborated the AFA rate “to the extent practicable.” See section 776(c) of the Act, 19 CFR 351.308(d), and NSK Ltd. v. United States, 346 F. Supp. 2d 1312, 1336 (CIT 2004) (stating, “pursuant to the to the extent practicable' language the corroboration requirement itself is not mandatory when not feasible”). Therefore, we find that the estimated margin of 38.03 percent in the Initiation Notice has probative value. Consequently, in selecting AFA with respect to Kin Fong, Magruba , and JASDI, we have applied the margin rate of 38.03 percent, the highest estimated dumping margin set forth in the notice of initiation. See Initiation Notice.

All-Others Rate

Section 735(c)(5)(B) of the Act provides that, where the estimated weighted-averaged dumping margins established for all exporters and producers individually investigated are zero or de minimis or are determined entirely under section 776 of the Act, the Department may use any reasonable method to establish the estimated all-others rate for exporters and producers not individually investigated. Our recent practice under these circumstances has been to assign, as the all-others rate, the simple average of the margins in the petition. See Notice of Final Determination of Sales at Less Than Fair Value: Glycine from the Republic of Korea, 72 FR 67275 (November 28, 2007); see also Notice of Final Determination of Sales at Less Than Fair Value and Affirmative Final Determination of Critical Circumstances: Glycine from Japan, 72 FR 67271 (November 28, 2007). Consistent with our practice we calculated a simple average of the rates in the Petition, as listed in the Initiation Notice, and assigned this rate to all other manufacturers/exporters. For details of these calculations, see the memorandum from Catherine Cartsos to File entitled “Antidumping Duty Investigation on Raw Flexible Magnets from Taiwan - Analysis Memo for All-Others Rate,” dated April 18, 2008.

Suspension of Liquidation

In accordance with section 733(d) of the Act, we are directing U.S. Customs and Border Protection (CBP) to suspend liquidation of all entries of raw flexible magnets from Taiwan that are entered, or withdrawn from warehouse, for consumption on or after the date of publication of this notice in the Federal Register. We will instruct CBP to require a cash deposit or the posting of a bond equal to the margins, as indicated in the chart below. These suspension-of-liquidation instructions will remain in effect until further notice. The dumping margins are as follows:

Manufacturer or Exporter | Margin (percent)
Kin Fong | 38.03
Magruba | 38.03
JASDI | 38.03
All Others | 31.20

International Trade Commission Notification

In accordance with section 733(f) of the Act, we have notified the ITC of our preliminary determination of sales at less than fair value. If our final antidumping determination is affirmative, the ITC will determine whether the imports covered by that determination are materially injuring, or threatening material injury to, the U.S. industry. The deadline for the Commission's determination would be the later of 120 days after the date of this preliminary determination or 45 days after the date of our final determination.

Public Comment

Case briefs for this investigation must be submitted no later than 30 days after the publication of this notice. Rebuttal briefs must be filed within five days after the deadline for submission of case briefs. A list of authorities used, a table of contents, and an executive summary of issues should accompany any briefs submitted to the Department. Executive summaries should be limited to five pages total, including footnotes.

Section 774 of the Act provides that the Department will hold a hearing to afford interested parties an opportunity to comment on arguments raised in case or rebuttal briefs, provided that such a hearing is requested by an interested party. If a request for a hearing is made in an investigation, the hearing normally will be held two days after the deadline for submission of the rebuttal briefs at the U.S. Department of Commerce, 14th Street and Constitution Avenue, NW, Washington, DC 20230. See 19 CFR 351.310(d)(1). Parties should confirm by telephone the time, date, and place of the hearing 48 hours before the scheduled time.

Interested parties who wish to request a hearing, or to participate if one is requested, must submit a written request within 30 days of the publication of this notice. See 19 CFR 351.310(c). Requests should specify the number of participants and provide a list of the issues to be discussed. Oral presentations will be limited to issues raised in the briefs.

We will not be conducting verifications of Kin Fong, Magruba, and JASDI because they have failed to file responses to all of our questionnaires, as discussed above in the Use of Facts Available section of this notice. Therefore, the deadline for submission of factual information in 19 CFR 351.301(b)(1) is not applicable. Thus, the deadline for submission of factual information in this investigation will be seven days after the date of publication of this notice.

We will make our final determination within 75 days after the date of this preliminary determination, pursuant to section 735(a)(1) of the Act.

This determination is issued and published pursuant to sections 733(f) and 777(i)(1) of the Act.

Dated: April 18, 2008.
David M. Spooner,
Assistant Secretary for Import Administration.

[FR Doc. E8-9141 Filed 4-24-08; 8:45 am]

BILLING CODE: 3510-DS-S